DEPARTMENT OF TRANSPORTATION

Office of the Secretary

Notice of Applications for Certificates of Public Convenience and Necessity and Foreign Air Carrier Permits Filed Under Subpart B (Formerly Subpart Q) During the Week Ending August 15, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0188.

Date Filed: August 12, 2009.

Due Date for Answers, Conforming Applications, or Motion to Modify Scope: September 2, 2009.

Description: Application of Rugby Aviation, LLC d/b/a Northwest Sky Ferry requesting authority to engage in scheduled passenger operations as a commuter air carrier.

Docket Number: DOT-OST-2009-0189.

Date Filed: August 12, 2009.

Due Date for Answers, Conforming Applications, or Motion to Modify Scope: September 2, 2009.

Description: Application of Monarch Airlines Limited (“Monarch”) requesting amendment/reissuance of its foreign air carrier permit to authorize: (a) Scheduled and charter foreign air transportation of persons, property and mail from any point or points behind any Member State of the European Community via any point or points in any Member state and via intermediate points to any point or points in the United States and beyond; (b) scheduled and foreign transportation of persons, property and mail between any point or points in the United States and any point or points in the European Common Aviation Area; (c) other charters pursuant to the prior approval requirements; and (d) scheduled and charter transportation authorized by any additional route rights that may be authorized in the future under the U.S.-EU agreement. Monarch also seeks an exemption to permit its operation as a scheduled and/or charter foreign air carrier within the full scope of the permit requested, pending effectiveness of that amended permit.

Renee V. Wright,
Program Manager, Docket Operations, Federal Register Liaison.

[FR Doc. E9-20776 Filed 8-27-09; 8:45 am]

BILLING CODE 4910-9X-P